DEPARTMENT OF DEFENSE

Defense Logistics Agency

Privacy Act of 1974; Systems of Records

AGENCY: Defense Logistics Agency, DoD.

ACTION: Notice to Add a System of Records.

SUMMARY: The Defense Logistics Agency proposes to add a system of records notice to its inventory of record systems subject to the Privacy Act of 1974 (5 U.S.C. 552a), as amended.

DATES: This action will be effective without further notice on December 19, 2005 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on November 9, 2005, to the House Committee on Government Reform, the Senate Committee on Homeland Security and Governmental Affairs, and the Office of Management and Budget (MB) pursuant to paragraph 4c of Appendix I to OMB Circular No. A-130, ‘Federal Agency Responsibilities for Maintaining Records About Individuals,’ dated February 8, 1996 (February 20, 1996, 61 FR 6427).

Dated: November 14, 2005.
L.M. Bynum,
OSD Federal Register Liaison Officer, Department of Defense.

S180.15

system name:

DLA Hometown News Releases.

System location:

Headquarters, Defense Logistics Agency, Public Affairs Office, 8725 John J. Kingman Road, Stop 2533, Fort Belvoir, VA 22060-6221, and the Public Affairs Offices of the Defense Logistics Agency (DLA) Field Activities. Official mailing addresses are published as an appendix to DLA's compilation of systems of records notices.

Categories of individuals covered by the system:

DLA military and civilian employees who request a Hometown News Release.

Categories of records in the system:

Biographical information submitted on DD Form 2266, entitled “Hometown News Release Information.” Information includes name, local address, last five digits of Social Security Number, branch of service, status, rank, pay grade, gender, newsworthy event, marital status, names and addresses of relatives (parents, stepparents, guardians, aunts/uncles, grandparents, and adult siblings), present unit of assignment, job title, years of military service, education data, and photographs.

Authority for maintenance of the system:

5 U.S.C. 301, Departmental regulations; 10 U.S.C 136, Under Secretary of Defense for Personnel and Readiness; and E.O. 9397 (SSN).

Purpose(s):

Information is collected and maintained for the purpose of distributing information on activities and accomplishments of DLA military and civilian personnel to hometown newspapers and broadcast stations throughout the United States using the Army and Air Force Hometown News Service. Release of this information is done with the individual's full cooperation and consent.

Routine uses of records maintained in the system, including categories of users and the purposes of such uses:

In addition to those disclosures generally permitted under 5 U.S.C. 552a(b) of the Privacy Act, these records or information contained therein may specifically be disclosed outside the DoD as a routine use pursuant to 5 U.S.C. 552(b)(3) as follows:

Information is released to hometown newspapers and broadcast stations throughout the United States using the Army and Air Force Hometown News Service for the purpose of showcasing the activities and accomplishments of the DLA military or civilian member.

The DoD ‘Blanket Routine Uses’ that appear at the beginning of the DLA's compilation of systems of records apply to this system.

Policies and practices for storing, retrieving, accessing, retaining, and disposing of records in the system:

Storage:

Records are maintained on paper and on electronic storage media.

Retrievability:

Retrieved by individual's name.

Safeguards:

Records are maintained in a controlled facility. Physical entry is restricted by the use of locks, guards, and is accessible only to authorized personnel. Access to computerized data is restricted by passwords, which are changed periodically. Data sent by DLA Public Affairs Officers to the Army and Air Force Hometown News Service is over a secure connection. Access to records is limited to person(s) responsible for servicing the record in performance of their official duties and who are properly screened and cleared for need-to-know.

Retention and disposal:

Disposition pending. (Until the National Archives and Records Administration has approved the disposition of these records, treat them as permanent).

System manger(s) and address:

Director, DLA Public Affairs, Headquarters, Defense Logistics Agency, 8725 John J. Kingman Road, Stop 2533, Fort Belvoir, VA 22060-6221, and the Heads of the Public Affairs Offices within each DLA Field Activity. Official mailing addresses are published as an appendix to DLA's compilation of systems of records notices.

Notification procedure:

Individuals seeking to determine whether this system of records contains information about themselves should address written inquiries to the Privacy Act Officer, Defense Logistics Agency, ATTN: DP, 8725 John J. Kingman Road, Stop 2533, Fort Belvoir, VA 22060-6221, or the Privacy Act office of the DLA field activity where assigned. Official mailing addresses are published as an appendix to DLA's compilation of systems of records notices. Individuals must provide their full name, current address, and telephone number.

Record access procedures:

Individuals seeking access to information about themselves contained in this system of records should address written inquiries to the Privacy Act Officer, Defense Logistics Agency, ATTN: DP, 8725 John J. Kingman Road, Stop 2533, Fort Belvoir, VA 22060-6221, or the Privacy Act office of the DLA field activity where assigned. Official mailing addresses are published as an appendix to DLA's compilation of systems of records notices. Individuals must provide their full name, current address, and telephone number.

Contesting record procedures:

The DLA rules for accessing records, for contesting contents and appealing initial agency determinations are contained in 32 CFR part 323, or may be obtained from the Privacy Act Officer, Headquarters, Defense Logistics Agency, ATTN: DP, 8725 John J. Kingman Road, Stop 2533, Fort Belvoir, VA 22060-6221.

Record source categories:

Information is obtained from the record subject.

Exemptions claimed for the system:

None.

[FR Doc. 05-23068 Filed 11-21-05; 8:45 am]

BILLING CODE 5001-06-M